DEPARTMENT OF STATE

[Delegation of Authority No. 355]

Delegation to the Assistant Secretary for Political-Military Affairs of Authority To Concur With Secretary of Defense Assignments of Certain Civilian Personnel

By virtue of the authority vested in the Secretary of State, including Section 1081 of the National Defense Authorization Act for Fiscal Year 2012 (Pub. L. 112-81) (the NDAA) and Section 1 of the State Department Basic Authorities Act, as amended (22 U.S.C. 2651a), and delegated to me by the Secretary of State in Delegation of Authority 245-1, dated February 13, 2009, I hereby delegate to the Assistant Secretary of Political-Military Affairs, to the extent authorized by law, the authority to concur with a Secretary of Defense assignment of civilian personnel to the Ministry of Defense (or security agency serving a similar defense function) of a foreign country that is made pursuant to subsection 1081(a) of the NDAA.

Notwithstanding this delegation of authority, any function or authority delegated by this Delegation may be exercised by the Secretary, the Deputy Secretary, the Deputy Secretary for Management and Resources, or the Under Secretary for Arms Control and International Security. Any reference in this delegation of authority to any statute or delegation of authority shall be deemed to be a reference to such statute or delegation of authority as amended from time to time.

This delegation of authority shall be published in the Federal Register.

Dated: April 10, 2013.
William J. Burns,
Deputy Secretary of State.

[FR Doc. 2013-12868 Filed 5-29-13; 8:45 am]

BILLING CODE 4710-25-P